SECURITIES AND EXCHANGE COMMISSION

[File No. 500-1]

In the Matter of Sunrise Solar Corporation; Order of Suspension of Trading

June 5, 2009.

It appears to the Securities and Exchange Commission that there is a lack of current and accurate information concerning the securities of Sunrise Solar Corporation (“Sunrise”) because of questions regarding the accuracy of statements by Sunrise Solar Corporation in press releases to investors concerning, among other things, the company's business prospects and agreements.

The Commission is of the opinion that the public interest and the protection of investors require a suspension of trading in the securities of Sunrise Solar Corporation.

Therefore, it is ordered, pursuant to Section 12(k) of the Securities Exchange Act of 1934, that trading in the securities of the above-listed company is suspended for the period from 9:30 a.m. EDT June 5, 2009 through 11:59 p.m. EDT, on June 18, 2009.

By the Commission.
J. Lynn Taylor,
Assistant Secretary.

[FR Doc. E9-13551 Filed 6-5-09; 11:15 am]

BILLING CODE 8010-01-P